DEPARTMENT OF LABOR

Agency Information Collection Activities; Submission for OMB Review; Comment Request; Notice of Recurrence; Correction

ACTION: Notice of availability; correction.

SUMMARY: The Department of Labor (DOL) is correcting a notice that appeared in the Federal Register on December 6, 2023. After publication of the notice, the DOL discovered that the synopsis of the Information Collection Request (ICR) provided in the SUPPLEMENTARY INFORMATION section incorrectly summarized the subject matter of the collection. DOL is issuing this correction to provide the correct synopsis.

FOR FURTHER INFORMATION CONTACT: Michelle Neary by telephone at 202-693-6312, or by email at DOL_PRA_PUBLIC@dol.gov.

SUPPLEMENTARY INFORMATION:

Correction

In FR. Doc. 2023-26748 appearing at 88 FR 84834 in the Federal Register of Wednesday, December 6, 2023, on page 84834, in the second column, the following correction is made:

1. In the SUPPLEMENTARY INFORMATION section, correct the first paragraph to read as follows: This form is used by current, or occasionally former, Federal employees to claim wage loss or medical treatment resulting from a recurrence of a work-related injury while Federally employed. The information is necessary to ensure the accurate payment of benefits. For additional substantive information about this ICR, see the related notice published in the Federal Register on August, 7, 2023 (88 FR 52214).

Michelle Neary,
Senior PRA Analyst.

[FR Doc. 2023-28219 Filed 12-21-23; 8:45 am]

BILLING CODE 4510-CH-P